SMALL BUSINESS ADMINISTRATION

RIN 3244-AF61

Small Business Innovation Research Program Policy Directive

AGENCY: U.S. Small Business Administration.

ACTION: Notice of Final Amendments to Policy Directive.

SUMMARY: This document announces a final amendment to the Small Business Innovation Research (SBIR) Program Policy Directive (PD). This amendment adjusts the SBIR Program award threshold amounts to offset the effect of inflation. This document also considers the public comments received in response to SBA's Notice of Proposed Amendment to the Policy Directive, which was published in the Federal Register on August 15, 2008.

DATES: This amendment is effective on March 30, 2010.

FOR FURTHER INFORMATION CONTACT: Edsel M. Brown, Jr., Assistant Director, Office of Technology, SBA, at (202) 205-7343. You may also email questions to technology@sba.gov.

SUPPLEMENTARY INFORMATION: On August 15, 2008, SBA published in the Federal Register proposed amendments to the SBIR Program PD to raise the SBIR Phase I award threshold amount from $100,000 to $150,000, and the Phase II award threshold amount from $750,000 to $1,000,000 (FR 48004). Congress established the current award threshold amounts of $100,000 for Phase I and $750,000 for Phase II in the program's 1992 reauthorization legislation. SBA has statutory authority to increase these award amounts to adjust for inflation or other economic or programmatic considerations once every five years (U.S.C. 638(j)(2)(D)). The regulatory guideline for the SBIR award amounts can be found in Section 7(h)(1) of the SBIR Policy Directive (67 FR 6008, Sept. 24, 2002). SBA has determined that to restore the average economic value of the SBIR awards, the award threshold amounts should be increased at this time. SBA determined that adjusting the threshold amounts to $150,000 for Phase I and $1,000,000 for Phase II adequately offsets the general effects of inflation, maintains a degree of stability and simplicity to the threshold levels, and continues to provide participating agencies with an appropriate degree of flexibility in award size. In the proposed amendment, the SBA explained that it monitored information from the U.S. Department of Commerce's Bureau of Economic Analysis, including the GDP Implicit Price Deflator and the Satellite R&D Account, as well as the Biomedical Research and Development Price index, to determine the appropriate time for, and amount of, this adjustment. The SBA believes this information still supports the adjustment in this final amendment.

Discussion of Comments on the Final Amendments

The 30-day public comment period closed on September 15, 2008. SBA received two comments on the proposed amendment. Both of the comments supported the proposed amendments and commended SBA for making the adjustments to the threshold amounts. One commenter noted further that because the National Institutes of Health (NIH) had already taken advantage of existing flexibility to exceed the guidelines, he did not foresee a significant reduction in the number of awards at that agency resulting from the change in guideline levels. SBA will move forward with the amendment as originally proposed.

Paperwork Reduction Act

SBA has determined that these amendments to the SBIR PD do not impose additional reporting or recordkeeping requirements under the Paperwork Reduction Act, 44 U.S.C. Chapter 35.

Regulatory Impact Analysis

OMB has determined that this amendment constitutes a “significant regulatory action” under Executive Order 12866 and in the proposed amendment to the Policy Directive, the SBA prepared a Regulatory Impact Analysis. The SBA received no comments on this analysis and continues to believe that the analysis was accurate.

Notice of Final Amendments to the Policy Directive; Small Business Innovation Research Program

To: The Directors, Small Business Innovation Research (SBIR) Program

Subject: Final Revisions to the SBIR Program Policy Directive Concerning Phase I and Phase II Threshold Amounts

1. Purpose. Section 9(j)(3) of the Small Business Act (Act) (15 U.S.C. 638(j)(3)) requires the Administrator of the U.S. Small Business Administration (SBA) to modify the SBIR Program Policy Directive as required for the general conduct of the SBIR Program within the Federal Government. Specifically, § 9(j)(2) of the Act requires the SBA to adjust the award amounts for Phase I and II to reflect economic or programmatic considerations once every five years.

2. Authority. These amendments to the Policy Directive are issued under the authority of 15 U.S.C. 638(j).

3. Procurement Regulations. The Federal Acquisition Regulations may need to be modified to conform to the requirements. Regulatory provisions that pertain to the areas of SBA responsibility will require approval of the SBA Administrator or designee. The SBA's Office of Technology is the appropriate office for coordinating such regulatory provisions.

4. Personnel Concerned. All Federal Government personnel who are involved in the administration of the program, including those involved with the issuance and management of funding agreements of the SBIR Program and the establishment of goals for small business concerns in research or research and development procurements or grants.

5. Distribution. Federal Government agencies and departments participating in the SBIR Program and those required to establish small business research development goals as directed by § 9 of the Act (15 U.S.C. 638(j)).

6. Originator. Office of Technology, SBA.

7. Dates. These amendments will be effective when issued as final in the Federal Register.

For the reasons set forth in the preamble, the SBIR Policy Directive is amended as follows:

1. Amend § 7(h)(1) by removing “$100,000” and adding in its place “150,000” and by removing “$750,000” and replacing it with “$1,000,000”.

2. Amend § 7(h)(2) by removing “$100,000” and adding in its place “$150,000” and by removing “$750,000” and adding in its place “$1,000,000”.

3. Amend § 10(b)(7) by removing “$100,000” and adding in its place “$150,000” and by removing “$750,000” and adding in its place “$1,000,000”.

Dated: May 29, 2009.
Karen G. Mills,
Administrator, U.S. Small Business Administration.

Editorial Note: This document was received in the Office of the Federal Register on March 25, 2010.

[FR Doc. 2010-7018 Filed 3-29-10; 8:45 am]

BILLING CODE 8025-01-P